DEPARTMENT OF HOMELAND SECURITY

Federal Emergency Management Agency

[Docket ID FEMA-2023-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of February 22, 2024 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Deputy Assistant Administrator for Risk Management, Federal Emergency Management Agency, Department of Homeland Security.

Community | Community map repository address
Sacramento County, California and Incorporated Areas
Docket No.: FEMA-B-2264
City of Citrus Heights | General Services Department Engineering Division, 6360 Fountain Square Drive, Citrus Heights, CA 95621.
City of Folsom | Public Works Department, 50 Natoma Street, Folsom, CA 95630.
City of Sacramento | Department of Utilities Engineering & Water Resources Division, 1395 35th Avenue, Sacramento, CA 95822.
Unincorporated Areas of Sacramento County | Sacramento County Department of Water Resources, 827 7th Street, Suite 301, Sacramento, CA 95814.
Clay County, Iowa and Incorporated Areas
Docket No.: FEMA-B-2285
City of Spencer | Planning Department, 101 West 5th Street, Spencer, IA 51301.
Unincorporated Areas of Clay County | Clay County Administration Building, 300 West 4th Street, Spencer, IA 51301.
Winneshiek County, Iowa and Incorporated Areas
Docket No.: FEMA-B-2270
City of Calmar | City Hall, 101 South Washington Street, Calmar, IA 52132.
City of Decorah | City Hall, 400 Claiborne Drive, Decorah, IA 52101.
City of Fort Atkinson | City Hall, 98 Elm Street, Fort Atkinson, IA 52144.
City of Jackson Junction | City Hall, 1201 County Road V68, Jackson Junction, IA 52171.
City of Ossian | City Hall, 123 West Main Street, Ossian, IA 52161.
City of Spillville | City Hall, 438 South Main Street, Spillville, IA 52168.
Unincorporated Areas of Winneshiek County | Winneshiek County Courthouse, 201 West Main Street, Decorah, IA 52101.
Blue Earth County, Minnesota and Incorporated Areas
Docket No.: FEMA-B-2128 and FEMA-B-2170
City of Eagle Lake | City Hall, 705 Parkway Avenue, Eagle Lake, MN 56024.
City of Lake Crystal | City Hall, 100 East Robinson Street, Lake Crystal, MN 56055.
City of Mankato | Intergovernmental Center, 10 Civic Center Plaza, Mankato, MN 56001.
City of Minnesota Lake | City Office, 103 Main Street North, Minnesota Lake, MN 56068.
City of Skyline | Skyline City Hall, 164 South Skyline Drive, Mankato, MN 56001.
City of St. Clair | City Hall, 304 Main Street West, St. Clair, MN 56080.
City of Vernon Center | City Hall, 101 Oak Street North, Vernon Center, MN 56090.
Unincorporated Areas of Blue Earth County | Blue Earth County Government Center, 204 South 5th Street, Mankato, MN 56001.
Emmons County, North Dakota and Incorporated Areas
Docket No.: FEMA-B-2281
City of Linton | City Hall, 101 Northeast 1st Street, Linton, ND 58552.
Unincorporated Areas of Emmons County | Emmons County Courthouse, 100 4th Street NW, Linton, ND 58552.
Lucas County, Ohio and Incorporated Areas
Docket No.: FEMA-B-1869 and FEMA-B-2223
City of Oregon | City Hall, 5330 Seaman Road, Oregon, OH 43616.
City of Toledo | Department of Inspection, One Government Center, Suite 1600, Toledo, OH 43604.
Unincorporated Areas of Lucas County | Lucas County Engineer's Office, 1049 South McCord Road, Holland, OH 43528.
Village of Harbor View | Village Hall, 327 Lakeview Drive, Harbor View, OH 43434.

[FR Doc. 2023-23113 Filed 10-18-23; 8:45 am]

BILLING CODE 9110-12-P